FEDERAL COMMUNICATIONS COMMISSION

[Report No. 2477]

Petitions for Reconsideration and Clarification of Action in Rulemaking Proceedings

April 6, 2001.

Petitions for Reconsideration and Clarification have been filed in the Commission's rulemaking proceedings listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by April 30, 2001. See Section 1.4(b)(1) of the Commission's rules (47 CFR 1.4(b)(1)). Replies to an opposition must be filed within 10 days after the time for filing oppositions have expired.

Subject: Amendment of FM Table of Allotments (MM Docket No. 99-233).

Number of Petitions Filed: 1.

Subject: Policies and Rules Concerning Unauthorized Changes of Consumers Long Distance Carriers (CC Docket No. 94-129).

Number of Petitions Filed: 4.

Subject: Provisions of Directory Listing Information Under the Telecommunications Act of 1934 (CC Docket No. 99-273).

Number of Petitions Filed: 2.

Subject: The Development of Operational, Technical, and Spectrum Requirements for Meeting Federal State and Local Public Safety Agency Communications Requirements Through the Year 2010 (WT Docket No. 96-86).

Number of Petitions Filed: 4.

Federal Communications Commission.
Magalie Roman Salas,
Secretary.

[FR Doc. 01-9160 Filed 4-12-01; 8:45 am]

BILLING CODE 6712-01-M